DEPARTMENT OF COMMERCE

National Oceanic and Atmospheric Administration

Proposed Information Collection; Comment Request; West Coast Region U.S. Pacific Highly Migratory Species Logbook Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 6, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or shannon.penna@noaa.gov.

SUPPLEMENTARY INFORMATION:

I. Abstract

Under the Fishery Management Plan for United States (U.S.) West Coast Fisheries for Highly Migratory Species (HMS) U.S. fishermen, participating in the Pacific hook-and-line (also known as the albacore troll and poll-and-line), coastal purse seine (vessels less than 400 st carrying capacity), large-mesh drift gillnet, and swordfish harpoon fisheries, are required to obtain an HMS permit. Permit holders are also required to complete and submit logbooks documenting their daily fishing activities, including catch and effort for each fishing trip. Logbook forms must be completed within 24 hours of the completion of each fishing day and submitted to the Southwest Fisheries Science Center (SWFSC) within 30 days of the end of each trip. Federal regulations allow the use of state logbooks to fulfill this requirement, for example, California has fulfilled this requirement to date for HMS fisheries. These data and associated analyses help the SWFSC provide critical HMS fisheries information to researchers, fisheries managers, and the needed management advice to the U.S. in its negotiations with foreign fishing nations that fish for HMS.

At the November 2018 Pacific Fisheries Management Council meeting, the California Department of Fish and Wildlife submitted an informational report outlining proposed regulations to repeal the state logbook requirements for swordfish harpoon and large-mesh drift gillnet. In December 2018, the California Fish and Wildlife Commission adopted an amendment to the California Code of Regulations (CCR) to eliminate the use of California logbooks for these gear types. These regulations are expected to become effective on April 1, 2019.

As a result, NMFS has developed Federal logbooks to replace the California logbooks. In addition, the SWFSC developed a purse seine logbook for vessels under 400 st (362.8 mt) carrying capacity. This will replace their use of the Inter-American Tropical Tuna Commission (IATTC) Seiner Record and Bridge Log designed for purse seine vessels over 400 st (362.8 mt) carrying capacity.

The SWFSC and representatives from each of the fisheries have reviewed the Federal logbooks. Representatives were chosen based on their experience with State logbooks and specific gear-types. The information collected from the public will remain consistent with information currently collected from California Fish and Wildlife logbooks. There will be no additional burden to the public.

II. Method of Collection

Respondents have a choice of either electronic data submission or paper forms for hook-and-line logbooks. Currently, purse seine, drift gillnet, and harpoon are only collected in paper form; fillable pdf forms are expected to be available for the 2020 fishing year. Methods of submittal include secure electronic transmission and mailing of paper forms.

III. Data

OMB Control Number: 0648-0223.

Form Number(s): NOAA Form 88-197.

Type of Review: Regular submission (revision of a currently approved collection).

Affected Public: Business or other for-profit.

Estimated Number of Respondents: 1,700.

Estimated Time per Response: 1 hour.

Estimated Total Annual Burden Hours: 2,266.

Estimated Total Annual Cost to Public: $1,110 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Clearance Officer, Office of the Chief Information Officer, Commerce Department.

[FR Doc. 2019-04102 Filed 3-6-19; 8:45 am]

BILLING CODE 3510-22-P